COMMITTEE FOR PURCHASE FROM PEOPLE WHO ARE BLIND OR SEVERELY DISABLED

Procurement List; Deletions

AGENCY: Committee for Purchase from People Who Are Blind or Severely Disabled.

ACTION: Deletions from the Procurement List.

SUMMARY: This action deletes from the Procurement List products and a service previously furnished by nonprofit agencies employing persons who are blind or have other severe disabilities.

EFFECTIVE DATE: December 9, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or email CMTEFedReg@jwod.gov.

SUPPLEMENTARY INFORMATION:

Deletions

On August 3, September 14 and October 5, 2007, the Committee for Purchase From People Who Are Blind or Severely Disabled published notice (72 FR43230; 52542; 56983) of proposed deletions to the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

JRROTC Shoulder Board:

NSN: 8455-01-468-0520—JRROTC Shoulder Board

NSN: 8455-01-468-0536—JRROTC Shoulder Board

NSN: 8455-01-468-0538—JRROTC Shoulder Board

NSN: 8455-01-468-0539—JRROTC Shoulder Board

NSN: 8455-01-468-0563—JRROTC Shoulder Board

NSN: 8455-01-468-0564—JRROTC Shoulder Board

NSN: 8455-01-468-0565—JRROTC Shoulder Board

NSN: 8455-01-468-0569—JRROTC Shoulder Board

NSN: 8455-01-468-0571—JRROTC Shoulder Board

NSN: 8455-01-468-0572—JRROTC Shoulder Board

NSN: 8455-01-468-0595—JRROTC Shoulder Board

NSN: 8455-01-468-0726—JRROTC Shoulder Board

NPA: Blind Industries & Services of Maryland, Baltimore, MD

NPA: Westmoreland County Blind Association, Greensburg, PA

Contracting Activity: Defense Supply Center Philadelphia, Philadelphia, PA

Marker, Lumocolor:

NSN: 7520-01-507-6962—Markers, Lumocolor, Non-Permanent

NSN: 7520-01-507-6966—Markers, Lumocolor, Non-Permanent

NSN: 7520-01-507-6969—Markers, Lumocolor, Permanent

NSN: 7520-01-507-6973—Markers, Lumocolor, Permanent

NPA: Winston-Salem Industries for the Blind, Winston-Salem, NC

Contracting Activity: Office Supplies & Paper Products Acquisition Ctr, New York, NY

Service

Service Type/Location: Janitorial/Custodial, U.S. Army Reserve Center, 3273rd U.S. Army Reserve Hospital, 1003 Grove Road, Suites B & C, Greenville, SC.

NPA: Greenville County Disabilities and Special Needs Board, Greenville, SC

Contracting Activity: Department of the Army, Army Reserve Contracting Center, Birmingham, AL

Patrick Rowe,
Acting Executive Director.

[FR Doc. E7-22036 Filed 11-8-07; 8:45 am]

BILLING CODE 6353-01-P